ENVIRONMENTAL PROTECTION AGENCY

40 CFR Part 52

[PA-4139a; FRL-7037-8]

Approval and Promulgation of Air Quality Implementation Plans; Pennsylvania; VOC and NOX RACT Determinations for Five Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for five major sources of volatile organic compounds (VOC) and nitrogen oxides (NOX). These sources are located in the Pittsburgh-Beaver Valley ozone nonattainment area (the Pittsburgh area). EPA is approving these revisions to establish RACT requirements in the SIP in accordance with the Clean Air Act (CAA).

DATES: This rule is effective on October 5, 2001 without further notice, unless EPA receives adverse written comment by September 20, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; Allegheny County Health Department, Bureau of Environmental Quality, Division of Air Quality, 301 39th Street, Pittsburgh, Pennsylvania 15201 and the Pennsylvania Department of Environmental Protection, Bureau of Air Quality Control, P.O. Box 8468, 400 Market Street, Harrisburg, Pennsylvania 17105.

FOR FURTHER INFORMATION CONTACT: Rose Quinto at (215) 814-2182 or Pauline Devose at (215) 814-2186, the EPA Region III address above or by e-mail at quinto.rose@epa.gov or devose.pauline@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) all sources covered by a CTG issued prior to November 15, 1990; and (3) all major non-CTG sources. The regulations imposing RACT for these non-CTG major sources were to be submitted to EPA as SIP revisions by November 15, 1992 and compliance required by May of 1995. The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP. On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

II. Summary of the SIP Revisions

On January 10, 1996, July 24, 1998, April 9, 1999, February 2, 2001 and April 19, 2001, PADEP submitted revisions to the Pennsylvania SIP which establish and impose RACT for several major sources of VOC and/or NOX. This rulemaking pertains to five of those sources. The remaining sources are or have been the subject of separate rulemakings. The Commonwealth's submittals consist of plan approvals (PAs) and operating permits (OPs) issued by PADEP. These five sources are located in the Pittsburgh area. The table below identifies the sources and individual PAs and OPs which are the subject of this rulemaking. A summary of the VOC and RACT determinations for each source follows the table.

PENNSYLVANIA—VOC AND NOX RACT DETERMINATIONS FOR INDIVIDUAL SOURCES
Source | County | Operating permit (OP#), plan approval (PA#) | Source type | “Major source” pollutant
BASF Corporation—Monaca Site | Beaver | OP 04-000-306 | Polymer production | VOC/ NOX
Equitrans, Inc.—Hartson Station | Washington | OP 63-000-642 | Internal combustion (IC) engines | NOX
Nova Chemicals, Inc | Beaver | OP 04-000-033 | Thermoplastic resin manufacturing | VOC/NOX
Ranbar Electrical Materials, Inc | Westmoreland | OP 65-000-042 | Paint and resin manufacturing | VOC
Witco Corporation—Petrolia | Butler | PA 10-037 | Specialty oil manufacturer | VOC/NOX

A. BASF Corporation

BASF Corporation (BASF) is a polymer production facility located in Monaca, Beaver County, Pennsylvania. BASF is a major VOC and NOX emitting facility. In this instance, RACT has been established and imposed by PADEP in an OP. On April 19, 2001, PADEP submitted OP 04-000-306 to EPA as a SIP revision. BASF produces various styrene/butadiene dispersion emulsions. OP 04-000-306 requires BASF and any associated air cleaning devices to be operated and maintained in a manner consistent with good operating and management practices. Equipment at BASF's Monaca facility includes the following: (1) Raw material storage tanks with associated unloading equipment; (2) styrene/butadiene (S/B) production area; and (3) Acronal production area. OP 04-000-306 requires all raw material storage tanks except the versene tank to be vented to the thermal oxidizing unit (TOU) or the flare. OP 04-000-306 also requires S/B pre-mix tanks, reactors and strippers be vented to the TOU or the flare, except during emergency venting. The S/B pre-mix tank contents shall be transferred to the S/B reactors using pumps. The emissions from the S/B strippers shall go through the closed loop, non-contact condenser, on the way to the TOU or the flare. The Acronal pre-emulsion tanks, and reactors shall be vented to the TOU or the flare, except during emergency venting. OP 04-000-306 requires the TOU and the flare to achieve an overall collection and destruction efficiency of 99 percent. The TOU shall maintain tan exhaust temperature of 1800 degrees Fahrenheit for a residence time of one second. The TOU shall be the primary control device used to destroy VOC vent emissions. OP 04-000-306 requires the owner and operator to continue to administer a fugitive leak detection and repair (LDAR) program and comply with the following record keeping requirements: (a) Record the temperature of the TOU and/or flare at least two times per shift; (b) maintain records of all start-ups, shutdowns and malfunctions of the TOU and the flare; (c) keep records of the LDAR program; and (d) all records shall be maintained for at least five years.

B. Equitrans, Inc., Hartson Station

Equitrans, Inc. (Equitrans), located in Pittsburgh, Washington County, Pennsylvania uses stationary reciprocating internal combustion (IC) engines to pump natural gas. Equitrans is a major NOX emitting facility. In this instance, RACT has been established and imposed by PADEP in an OP. On January 10, 1996 and September 13, 1996, PADEP submitted this OP 63-000-642 to EPA as a SIP revision. OP 63-000-642 requires Equitrans and any associated air cleaning devices to be operated and maintained in a manner consistent with good operating and management practices. OP 63-000-642 requires the emission rates of each Cooper Bessemer GMV-10 engine to meet the annual NOX emission limits of 108 tons per year (tpy) and hourly emissions of 43 pounds per hour (lb/hr). The non-methane volatile organic carbon (NMVOC) limits for these engines are 3 tpy and 1 lb/hr. Each Cooper Bessemer GMV-10 engine shall be limited to 5000 hours annually. OP 63-000-642 is required to conduct a minimum of one stack test in accordance with 25 PA Code section 139 and PADEP's Source Testing Manual, while engines are operating at full load and full speed during the ozone season (April to October). All sources operating 750 hours or more during the preceding ozone season shall conduct a stack test semi-annually through either an EPA stack test or through the use of portable analyzers. All sources operating less than 750 hours during the preceding ozone season shall conduct a stack test annually through either an EPA stack test or through the use of portable analyzers. For those test utilizing portable analyzers, Equitrans shall submit a complete operating procedure to PADEP at least 60 days prior to the stack test. The accuracy of the portable analyzer readings shall be verified by operation and recording of readings during the EPA method stack testing.

Results from the stack tests using portable analyzers shall be maintained for one year. Equitrans is required to submit a pretest protocols for review at least 60 days prior to conducting the stack test, notice to PADEP that a stack test is to be performed at least two weeks prior to conducting the stack test (so that an observer may be present), and a stack test report to PADEP within 60 days of testing. All annual limits must be met on a rolling monthly basis in every 12 month period. Equitrans is required to maintain records in accordance with the record keeping requirements of 25 PA Code section 129.95 and shall retain records for at least two years. At a minimum, the source must record operating hours, daily fuel consumption, operating pressures, and operating temperatures for each engine. Emission reductions in the allowable emission rates below the level specified above, are not surplus reductions pursuant to 25 PA Code section 127.206, and thus, may not be used to generate Emission Reduction Credits (ERCs).

C. Nova Chemicals, Inc.

Nova Chemicals, Inc. (Nova) is a thermoplastic resin manufacturing facility located in Potter Township, Beaver County, Pennsylvania. Nova is a major VOC and NOX emitting facility. In this instance, RACT has been established and imposed by PADEP in an OP. On February 2, 2001, PADEP submitted OP 04-000-033 to EPA as a SIP revision. OP 04-000-033 requires Nova and any associated air cleaning devices to be operated and maintained in a manner consistent with good operating and management practices. OP 04-000-033 is for the operation of VOC emission sources subject to 25 PA Code section 129.91. In any consecutive 12 month period, VOC emissions from the following emission units shall not exceed:

Source | Emissions (tons)
Unit D2 | 186
Unit D3—(Dylene) | 11
Unit D3—(Dylite) & Unit D4—(Dylite) | 253
Dylark | 9
D3 Extrusion (P-20 Compounding Line #2) | 2
D3 Extrusion (Lines 1, 3, 4, and S.P.) | 7
Field Storage | 5
Plant (miscellaneous) | 3
Total Facility Wide | 468

To demonstrate compliance with the limits, OP 04-000-033 requires the owner/operator of Nova to maintain records in accordance with 25 PA Code 129.95. Nova shall utilize a PADEP approved parametric monitoring plan. Monitoring data shall be recorded on log sheets, computer media, paper printouts, strip charts, or a combination of these. Summary reports for all required monitoring shall be submitted to PADEP every 12 months. The Styrene facility has been permanently shutdown. The post RACT NOX emission limits for the units of the shutdown facility are as follows:

Two natural gas fired superheaters—30 tons/1 year

Two natural gas fired boilers—24 tons/1 year 54 tons/1 year

The post VOC RACT for the total process areas for VOC emissions, shall not exceed 40 tons in any consecutive 12 month period.

D. Ranbar Electrical Materials, Inc.

Ranbar Electrical Materials, Inc. (Ranbar) is a paint and resin manufacturing facility located in Manor, Westmoreland County, Pennsylvania. Ranbar is a major VOC emitting facility. In this instance, RACT has been established and imposed by PADEP in an OP. On April 19, 1999, PADEP submitted OP 65-000-042 to EPA as a SIP revision. OP 65-000-042 requires Ranbar and any associated air cleaning devices to be operated and maintained in a manner consistent with good operating and management practices. This permit is for the continued operation of the Manor Plant and modifications of the ducting of the resin thinning tank exhausts to an existing fume incinerator at the facility. Under OP 65-000-042, facility-wide VOC emissions shall not exceed 112.1 tons per year (tpy) combined total, in any 12 month consecutive period. VOC emissions for the individual sources shall not exceed the following: (1) resin manufacturing: 37.6 tpy; and (2) paint manufacturing: 72.4 tpy. Ranbar shall keep a daily record of the quantity of all coatings, diluents, and cleaning solvents used and/or manufactured. At a minimum, the record shall contain the gallons of each coating produced, the gallons of solvents used and the weight percent of organic volatiles in the coating and/or solvents. Ranbar shall maintain the above records for all coatings and cleaning solvents in stock or shipped off-site for disposal for a period of five years. Ranbar shall submit an annual report, to include the total amount of each type of coating manufactured for the previous year's operation. Ranbar shall install, maintain, and operate all combustion sources in accordance with the manufacturer's specifications. Ranbar shall maintain records in accordance with the record keeping requirements of 25 PA Code section 129.95. All records shall be maintained for at least two years.

E. Witco Corporation—Petrolia

Witco Corporation—Petrolia (Witco-Petrolia) is a specialty oil manufacturing facility located in Petrolia, Butler County, Pennsylvania. Witco-Petrolia is a major VOC and NOX emitting facility. In this instance, RACT has been established and imposed by PADEP in a PA. On July 24, 1998, PADEP submitted PA 10-037 to EPA as a SIP revision. Under PA 10-037, the VOC control for the emissions from the methanol storage tanks shall be a passive vent collection system with a packed tower scrubber. Witco-Petrolia shall install, test, operate and maintain the vent collection and packed tower in accordance with conditions specified in the PA. The methanol fugitive emissions shall be controlled by the use of the facility's LDAR program which shall be in compliance with 25 PA Code section 129.58. PA 10-037 requires the combustion units not to exceed the following NOX limits:

Source | NOX emission limit (lb/MMBTU, tpy)
Boiler #7 | 0.180, 53.1
Boiler #12 (gas) | 0.180, 40.9
Boiler #12 (oil) | 0.40, 40.9
Boiler #14 | 0.180, 32.3

To demonstrate compliance with the emission limits shown above, Witco-Petrolia shall maintain NOX emissions on a quarterly rolling average. Boilers #7, #12, and #14 shall have an annual adjustment or tune-up that will consist of an inspection, adjustment, cleaning or replacement of fuel burning equipment, inspection and adjustment of the flame characteristics, and the inspection and adjustment of the air-to-fuel control system. The tune-up shall be performed in accordance with EPA document “Combustion Efficiency Optimization Manual for Operators of Oil and Gas-fired Boilers”, EPA-340/1-83-023, September 1983. PA10-037 requires the reject stripper (30 MMBTU/hr), boiler #8 (28.1 MMBTU/hr), and boiler #11 (35 MMBTU/hr) to comply with the presumptive SIP-approved RACT requirements of 25 PA Code section 129.93(b). Witco-Petrolia shall maintain and operate the presumptive NOX sources (less than 20 MMBTU/hr) in accordance with the manufacturer's specifications. The sources shall also be operated and maintained in accordance with good air pollution control practices. PA10-037 also requires Witco-Petrolia to comply with the record keeping requirements of 25 PA Code section 129.95.

III. EPA's Evaluation of the SIP Revisions

EPA is approving these RACT SIP submittals because PADEP established and imposed these RACT requirements in accordance with the criteria set forth in the SIP-approved RACT regulations applicable to these sources. PADEP has also imposed record-keeping, monitoring, and testing requirements on these sources sufficient to determine compliance with the applicable RACT determinations.

IV. Final Action

EPA is approving the revisions to the Pennsylvania SIP submitted by PADEP to establish and require VOC and NOX RACT for five major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 5, 2001 without further notice unless EPA receives adverse comment by September 20, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section or paragraph of that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for five named sources.

C. Petitions for Judicial Review

Under section 307(b)(1) of the Clean Air Act, petitions for judicial review of this action must be filed in the United States Court of Appeals for the appropriate circuit by October 5, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from five individual sources in Pennsylvania may not be challenged later in proceedings to enforce its requirements. (See section 307(b)(2).)

List of Subjects in 40 CFR Part 52

Environmental protection, Air pollution control, Hydrocarbons, Incorporation by reference, Nitrogen Oxides, Ozone, Reporting and recordkeeping requirements.

Dated: August 10, 2001.
Judith Katz,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(173) to read as follows:

§ 52.2020 Identification of plan.

* * * * *

(c) * * *

(173) Revisions pertaining to VOC and NOX RACT for major sources, located in the Pittsburgh-Beaver Valley ozone nonattainment area, submitted by the Pennsylvania Department of Environmental Protection on January 10, 1996, July 24, 1998, April 9, 1999, February 2, 2001 and April 19, 2001.

(i) Incorporation by reference.

(A) Letters dated January 10, 1996, July 24, 1998, April 9, 1999, February 2, 2001 and April 19, 2001 submitted by the Pennsylvania Department of Environmental Protection transmitting source-specific VOC and NOX RACT determinations.

(B) Plan Approvals (PAs) and Operating Permits (OPs) for the following sources:

(1) Equitrans, Inc., OP 63-000-642, effective July 10, 1995, except for the Permit Term.

(2) Witco Corporation, Petrolia Facility, PA 10-037, effective June 27, 1995.

(3) Ranbar Electrical Materials, Inc., OP 65-000-042, effective February 22, 1999, except for the Permit Term and conditions 11, 12, 13 and 14.

(4) Nova Chemicals, Inc., OP 04-000-033 (Permit No. 04-0033), effective as reissued January 24, 2001, except for the Permit Term and conditions 8, 9, and 10.

(5) BASF Corporation, OP 04-000-306, effective March 23, 2001.

(ii) Additional Materials—Other materials submitted by the Commonwealth of Pennsylvania in support of and pertaining to the RACT determinations submitted for the sources listed in paragraph (c)(173)(i)(B) of this section.

[FR Doc. 01-21030 Filed 8-20-01; 8:45 am]

BILLING CODE 6560-50-P